ENVIRONMENTAL PROTECTION AGENCY

[EPA-HQ-OPPT-2011-0313; FRL-8874-1]

Certain New Chemicals; Receipt and Status Information; Correction

AGENCY: Environmental Protection Agency (EPA).

ACTION: Notice; correction.

SUMMARY: EPA issued a notice in the Federal Register of April 15, 2011, concerning certain new chemicals, receipt and status information, premanufacture notices. This document is being issued to correct typographical errors.

FOR FURTHER INFORMATION CONTACT: For technical information contact: Bernice Mudd, Information Management Division, Office of Pollution Prevention and Toxics, Environmental Protection Agency, 1200 Pennsylvania Ave., NW., Washington, DC 20460-0001; telephone number: (202) 564-8951; e-mail address: mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

The Agency included in the notice a list of those who may be potentially affected by this action. If you have questions regarding the applicability of this action to a particular entity, consult the technical person listed under FOR FURTHER INFORMATION CONTACT.

B. How can I get copies of this document and other related information?

EPA has established a docket for this action under docket identification (ID) number EPA-HQ-OPPT-2011-0313. All documents in the docket are listed in the docket index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

II. What does this correction do?

In the preamble for FR Doc. 2011-8574 published in the Federal Register of April 15, 2011 (76 FR 21339) (FRL-8869-4), the premanufacture notices P-11-0022 through P-11-0026 inadvertently contained incorrect chemicals which are corrected as follows:

On page 21340, under Table I. the entries for P-11-0022, P-11-0023, and P-11-0024 and on page 21341, P-11-0025 and P-11-0026 are corrected to read:

Case No. | Received date | Projected Notice end date | Manufacturer/importer | Use | Chemical
P-11-0022 | 10/12/10 | 01/09/11 | Akzo Nobel Coatings Inc | (S) Designated use of this polymer is for refinishing vehicles. through the hydroxyl groups on the polymer, the coating is crosslinked with a polyisocyanate. | (S) 2-propenoic acid, 2-methyl-, 2-hydroxyethyl ester, polymer with rel-(1r,2r,4r)-1,7,7-trimethylbicyclo[2.2.1]hept-2-yl 2-methyl-2-propenoate and rel-(1r,2r,4r)—1,7,7-trimethylbicyclo[2.2.1]hept-2-yl 2-propenoate*.
P-11-0023 | 10/13/10 | 01/10/11 | Omnova Solutions Inc | (S) Intermediate in the production of functionalized polymers; surfactant, flow, leveling, and wetting additive for solvent borne coatings | (S) Boron, trifluoro(tetrahydrofuran)-, (t-4)-, polymer with 3-methyl-3-[(2,2,2-trifluoroethoxy)methyl]oxetane, ether with 2,2-dimethyl-1,3-propanediol (2:1)*.
P-11-0024 | 10/13/10 | 01/10/11 | Omnova Solutions Inc | (S) Intermediate in the production of functionalized polymers; surfactant, flow, leveling, and wetting additive for solvent borne coatings | (S) Boron, trifluoro(tetrahydrofuran)-, (t-4)-, polymer with 3-methyl-3-[(2,2,3,3,3-pentafluoropropoxy)methyl]oxtane, ether with 2,2-dimethyl-1,3-propanediol (2:1)*.
P-11-0025 | 10/13/10 | 01/10/11 | Omnova Solutions Inc | (S) Intermediate in the production of functionalized polymers; surfactant, flow, leveling, and wetting agent borne coatings | (S) Boron, trifluoro(tetrahydrofuran)-, (t-4)-, polymer with 3-methyl-3-[(2,2,3,3,3-pentafluoropropoxy)methyl]oxetane, mono(2,2,2-trifluoroethyl) ether*.
P-11-0026 | 10/13/10 | 01/10/11 | Omnova Solutions Inc | (S) Intermediate in the production of functionalized polymers; surfactant, flow, leveling, and wetting agent borne coatings | (S) Boron, trifluoro(tetrahydrofuran)-, (t-4)-, polymer with 3-methyl-3-[(3,3,4,4,5,5,6,6,6-nonafluorohexly)oxy]methyl]oxetane, ether with 2,2-dimethyl-1,3-propanediol(2:1)*.

List of Subjects

Environmental protection, Chemicals, Hazardous substances, Imports, Notice of commencement, Premanufacturer, Reporting and recordkeeping requirements, Test marketing exemptions.

Dated: May 23, 2011.
Matthew Leopard,
Director, Information Management Division, Office of Pollution Prevention and Toxics.

[FR Doc. 2011-13673 Filed 6-2-11; 8:45 am]

BILLING CODE 6560-50-P